DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2017 Economic Census—Commodity Flow Survey.

OMB Control Number: 0607-0932.

Form Number(s): CFS-1000.

Type of Request: Reinstatement, with change, of an expired collection.

Number of Respondents: 100,000.

Average Hours per Response: 2.5.

Burden Hours: 1,000,000.

Needs and Uses: The U.S. Census Bureau plans to conduct the 2017 Commodity Flow Survey (CFS), a component of the 2017 Economic Census, as it is the only comprehensive source of multi-modal, system-wide data on the volume and pattern of goods movement in the United States. The CFS is conducted in partnership with the Bureau of Transportation Statistics (BTS), Office of the Assistant Secretary for Research and Technology, U.S. Department of Transportation (DOT).

The survey provides a crucial set of statistics on the value, weight, mode, and distance of commodities shipped by mining, manufacturing, wholesale, and selected retail and services establishments, as well as auxiliary establishments that support these industries. The Census Bureau will publish these shipment characteristics for the nation, census regions and divisions, states, and CFS defined geographic areas. As with the 2012 Commodity Flow Survey, this survey also identifies export, hazardous material, and temperature controlled shipments.

The DOT views updated information on freight flows as critical to understanding the use, performance, and condition of the nation's transportation system, as well as informing transportation investments. Data on the movement of freight also are important for effective analyses of changes in regional and local economic development, safety issues, and environmental concerns. They also provide the private sector with valuable data needed for critical decision-making on a variety of issues including market trends, analysis, and segmentation. Each day, governments, businesses, and consumers make countless decisions about where to go, how to get there, what to ship and which transportation modes to use. Transportation constantly responds to external forces such as shifting markets, changing demographics, safety concerns, weather conditions, energy and environmental constraints, and national defense requirements. Good decisions require having the right information in the right form at the right time.

The CFS provides critical data to federal, state and local government agencies to make a wide range of transportation investment decisions for developing and maintaining an efficient transportation infrastructure that supports economic growth and competitiveness.

Transportation planners require the periodic benchmarks provided by a continuing CFS to evaluate and respond to ongoing geographic shifts in production and distribution centers, as well as policies such as “just in time delivery.”

The 2017 CFS will be a mail-out/mail-back or electronic reporting sample survey of approximately 100,000 business establishments in the mining, manufacturing, wholesale, and selected retail and services industries, as well as auxiliary establishments that support these industries.

The CFS is co-sponsored by the BTS and the Census Bureau, with a majority of funding (80 percent) provided by the BTS. In addition to their funding support, the BTS also provides additional technical and planning guidance in the development and implementation of the program.

The CFS is the primary source of information about freight movement in the United States. Estimates of shipment characteristics are published at different levels of aggregation. The CFS produces summary statistics and a public use microdata file. No confidential data are released. The survey covers shipments from establishments in the mining, manufacturing, wholesale, and selected retail industries, as well as auxiliary establishments that support these industries. Federal agencies, state and local transportation planners and policy makers, and private sector transportation managers, analysts, and researchers strongly support the conduct of the CFS.

At the federal level, the data from the CFS are required by a variety of agencies to help accomplish their missions. Results from the CFS help promote economic development and provide for an efficient U.S. transportation system. The CFS enables better informed infrastructure investment decisions, and policies promoting public safety and protecting the natural environment affected by transportation.

Users and supporters of CFS data at the federal level include:

• Federal Highway Administration

• Federal Railroad Administration

• Maritime Administration

• Pipeline and Hazardous Materials Administration

• Bureau of Transportation Statistics

• Bureau of Economic Analysis

• Bureau of Labor Statistics

• Federal Emergency Management Administration

• U.S. Army Corps of Engineers

One of the major uses of the CFS is by the Federal Highway Administration and the Bureau of Labor Statistics to incorporate the CFS into the Freight Analysis Framework (FAF). The CFS acts as the foundation of the FAF and represents almost 70% of the data used to construct the FAF. The FAF is used extensively by the states and localities to conduct freight planning.

At the state and local levels, the information from the CFS is extremely valuable for economic development and transportation planning. The CFS data are used by many localities in responding to requirements contained in the Transportation Equity Act for the 21st Century.

Transportation planners and policy makers in special interest areas have also identified CFS data as critical to their decision making. For example, CFS data on the types and magnitude of hazardous materials shipped in various geographic regions are critical in evaluating and setting policies on the movement of hazardous materials.

CFS data are also crucial to transportation managers, analysts, and researchers in the private sector. These data are used to identify trends in shipping activities, strength of market segments, and existing and potential transportation related issues requiring additional resources.

The CFS has received support from a wide range of users expressing the need for the unique data produced by the survey.

Affected Public: Business or other for-profit, Not-for-profit institutions.

Frequency: Respondents provide quarterly reports over a one year period.

Respondent's Obligation: Mandatory.

Legal Authority: Title 13, U.S.C., Sections 8(b), 131 and, 193; 49 U.S.C., Section 6302.

This information collection request may be viewed at www.reginfo.gov. Follow the instructions to view Department of Commerce collections currently under review by OMB.

Written comments and recommendations for the proposed information collection should be sent within 30 days of publication of this notice to OIRA_Submission@omb.eop.gov or fax to (202) 395-5806.

Dated: June 13, 2016.
Glenna Mickelson,
Management Analyst, Office of the Chief Information Officer.

[FR Doc. 2016-14233 Filed 6-15-16; 8:45 am]

BILLING CODE 3510-07-P